FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: National Fire Academy Resident Course Evaluation Form.

Type of Information Collection: Extension of a currently approved collection.

OMB Number: 3067-0234.

Abstract: FEMA uses the National Fire Academy Course Evaluation Form to evaluate on-campus courses delivered at the NFA facility, located in Emmitsburg, Maryland. It is also used to evaluate regional courses, which are identical to the NFA resident courses offered in selected regions to students unable to travel to Emmitsburg campus, for the resident offering of the course. The data provided by students evaluating an NFA course are used to determine the need for course improvements and the degree of student satisfaction with the course experience.

Affected Public: Individuals or households participating in NFA courses on-campus or regional courses.

Number of Respondents: 5,500.

Estimated Time per Respondent: 15 minutes.

Estimated Total Annual Burden Hours: 1,375 hours.

Frequency of Response: The end of each course.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Program Services Division, Operations Support Directorate, Federal Emergency Management Agency, 500 C Street, SW, Room 316, Washington, DC 20472, telephone number (202) 646-2625, FAX number (202) 646-3524 or e-mail address: muriel.anderson@fema.gov.

Dated: August 25, 2000.
Reginald Trujillo,
Director, Program Services Division, Operations Support Directorate.

[FR Doc. 00-22535 Filed 8-31-00; 8:45 am]

BILLING CODE 6718-01-P